DEPARTMENT OF HEALTH AND HUMAN SERVICES

Centers for Disease Control and Prevention

Interagency Committee on Smoking and Health, National Center for Chronic Disease Prevention and Health Promotion

In accordance with section 10(a)(2) of the Federal Advisory Committee Act (Pub. L. 92-463), the Centers for Disease Control and Prevention (CDC) announces the following meeting for the aforementioned committee:

Time and Date: 11:30 a.m.-4:30 p.m., September 18, 2007.

Place: Grand Hyatt Washington, 1000 H. Street, NW., Burnham Room, Washington, DC 20001, Telephone: (202) 582-1234.

Status: Open to the public, limited only by the space available. Those who wish to attend are encouraged to register with the contact person listed below. If you will require a sign language interpreter, or have other special needs, please notify the contact person by 4:30 p.m., E.S.T. on September 7, 2007.

Purpose: The Committee advises the Secretary, Department of Health and Human Services, and the Assistant Secretary for Health in the (a) coordination of all research and education programs and other activities within the Department and with other federal, state, local and private agencies and (b) establishment and maintenance of liaison with appropriate private entities, federal agencies, and state and local public health agencies with respect to smoking and health activities.

Matters To Be Discussed: The agenda will focus on “Reducing Children's Exposure to Second Hand Smoke.”

Agenda items are subject to change as priorities dictate.

Substantive program information as well as summaries of the meeting and roster of committee members may be obtained from the Internet at http://www.cdc.gov/tobacco.

Contact Person for More Information: Ms. Monica L. Swann, Management and Program Analyst, Office on Smoking and Health, CDC, 4770 Buford Highway, M/S K50, Atlanta, GA 30341, Telephone: (770) 488-5278.

The Director, Management Analysis and Services Office, has been delegated the authority to sign Federal Register notices pertaining to announcements of meetings and other committee management activities, for both CDC and the Agency for Toxic Substances and Disease Registry.

Diane C. Allen,
Acting Director, Management Analysis and Service Office, Centers for Disease Control and Prevention.

[FR Doc. E7-15873 Filed 8-13-07; 8:45 am]

BILLING CODE 4163-18-P